ENVIRONMENTAL PROTECTION AGENCY

[EPA-HQ-OEI-2011-0096; FRL-10025-76-OMS]

Information Collection Request Submitted to OMB for Review and Approval; Comment Request; Cross-Media Electronic Reporting Rule (Renewal)

AGENCY: Environmental Protection Agency (EPA).

ACTION: Notice.

SUMMARY: The Environmental Protection Agency (EPA) has submitted an information collection request (ICR), Cross-Media Electronic Reporting Rule (EPA ICR Number 2002.08, OMB Control Number 2025-0003) to the Office of Management and Budget (OMB) for review and approval in accordance with the Paperwork Reduction Act . This is a proposed extension of the ICR, which is currently approved through August 31, 2021. Public comments were previously requested via the Federal Register on January 15, 2021, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 30, 2021.

ADDRESSES: Submit your comments to EPA, referencing Docket ID No. EPA-HQ-OEI-2011-0096, online using www.regulations.gov (our preferred method), oei.docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

FOR FURTHER INFORMATION CONTACT: Shirley Miller or Dipti Singh, Information Exchange Services Division, Office of Information Management, Office of Mission Support (2823T), Environmental Protection Agency, 1200 Pennsylvania Ave. NW, Washington, DC 20460; telephone number: 202-566-2908 or 202-566-0739, respectively; email address: miller.shirley@epa.gov or singh.dipti@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The scope of this ICR is the electronic reporting components of CROMERR, which is designed to: (i) Allow EPA to comply with the Government Paperwork Elimination Act of 1998; (ii) provide a uniform, technology-neutral framework for electronic reporting across all EPA programs; (iii) allow EPA programs to offer electronic reporting as they become ready for CROMERRR; and (iv) provide states with a streamlined process—together with a uniform set of standards—for approval of their electronic reporting provisions for all their EPA-authorized programs. Responses to the collection of information are voluntary. In order to accommodate CBI, the information collected must be in accordance with the confidentiality regulations set forth in 40 CFR part 2, subpart B. Additionally, EPA will ensure that the information collection procedures comply with the Privacy Act of 1974 and the OMB Circular 108.

Form Numbers: None.

Respondents/affected entities: Entities that report electronically to EPA and state, tribal, or local government authorized programs; and state, tribal, and local government authorized programs implementing electronic reporting.

Respondent's obligation to respond: Voluntary, required to obtain or retain a benefit (Cross-Media Electronic Reporting Rule (CROMERR) established to ensure compliance with the Government Paperwork Elimination Act (GPEA)).

Estimated number of respondents: 132,724 (total).

Frequency of response: On occasion.

Total estimated burden: 81,985 hours (per year). Burden is defined at 5 CFR 1320.03(b).

Total estimated cost: $4,710,366 (per year), including $3,620,310 in annualized labor costs and $1,090,056 in annualized capital or operation & maintenance costs.

Changes in the Estimates: There is a decrease of 4,569 hours in the total estimated respondent burden compared with the ICR currently approved by OMB. The decrease in respondent burden can be attributed primarily to two reasons. First, over the past three years, the Agency made improvements to CDX to enhance efficiencies in end-user registration, integration, and Help Desk support. These improvements resulted in reduced burden to respondents. Second, through technological improvements, the Agency now is able to obtain real world data via Google Analytics on the frequency and amount of time a respondent spends accessing CDX web pages and features. Based on this information, EPA has revised the burden estimates associated with some of the CDX registration and identity proofing activities. The Agency believes that these revised burden estimates more accurately reflect the resources spent by respondents conducting electronic reporting activities under CROMERR. Note that the decrease in respondent burden described above was offset by an almost two-fold increase in the number of respondents that report to state, tribal, and local electronic document receiving systems. In developing this ICR, EPA revised the approach used to estimate the number of these reporters. The revised approach uses shared CROMERR services solution data to supplement estimates obtained based on analysis of respondent universe growth rates in EPA program ICRs, which was the previous approach used to estimate number of reporters. The overall change in respondent burden is considered an “adjustment,” because it results from changes in the respondent universe and hourly burden estimates used in the development of the ICR.

Courtney Kerwin,
Director, Regulatory Support Division.

[FR Doc. 2021-13950 Filed 6-29-21; 8:45 am]

BILLING CODE 6560-50-P